DEPARTMENT OF TRANSPORTATION

Federal Aviation Administration

14 CFR Part 39

[Docket No. FAA-2021-0958; Project Identifier 2019-CE-010-AD; Amendment 39-22133; AD 2022-16-04]

RIN 2120-AA64

Airworthiness Directives; Gulfstream Aerospace Corporation Airplanes

AGENCY: Federal Aviation Administration (FAA), DOT.

ACTION: Final rule; correction.

SUMMARY: The FAA is correcting an airworthiness directive (AD) that published in the Federal Register. That AD applies to all Gulfstream Aerospace Corporation (Gulfstream) Model GV and GV-SP airplanes. As published, a revision level and a table number in certain document citations in the Credit for Previous Actions section of the regulatory text are incorrect. This document corrects those errors. In all other respects, the original document remains the same.

DATES: This correction is effective September 7, 2022. The effective date of AD 2022-16-04 remains September 7, 2022.

The Director of the Federal Register approved the incorporation by reference of certain publications listed in this AD as of September 7, 2022 (87 FR 47337, August 3, 2022).

ADDRESSES:

AD Docket: You may examine the AD docket at regulations.gov by searching for and locating Docket No. FAA-2021-0958; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For service information identified in this final rule, contact Gulfstream Aerospace Corporation, Technical Publications Dept., P.O. Box 2206, Savannah, GA 31402; phone: (800) 810-4853; fax: (912) 965-3520; email: pubs@gulfstream.com; website: gulfstream.com/en/customer-support/.

• You may view this referenced service information at the FAA, Airworthiness Products Section, Operational Safety Branch, 901 Locust, Kansas City, MO 64106. For information on the availability of this material at the FAA, call (817) 222-5110. It is also available at regulations.gov by searching for and locating Docket No. FAA-2021-0958.

FOR FURTHER INFORMATION CONTACT: Ronald Wissing, Aviation Safety Engineer, Atlanta ACO Branch, FAA, 1701 Columbia Avenue, College Park, GA 30337; phone: (404) 474-5552; email: 9-ASO-ATLACO-ADs@faa.gov.

SUPPLEMENTARY INFORMATION: AD 2022-16-04, Amendment 39-22133 (87 FR 47337, August 3, 2022) (AD 2022-16-04), requires inspecting the horizontal stabilizer lower skin and associated bonded doublers and bonded stringers, repairing any area with corrosion beyond allowable damage limits, and incorporating revisions to the airworthiness limitations section (ALS) in the existing aircraft maintenance manual (AMM) or progressive maintenance program for all Gulfstream Model GV and GV-SP airplanes.

Need for the Correction

As published, the regulatory text of AD 2022-16-04 includes the following errors:

• The revision level of the Gulfstream V Aircraft Maintenance Manual specified in paragraph (j)(1) of the regulatory text is incorrectly identified as “Revision 53.” The correct revision for February 28, 2020, is “Revision 51”; and

• The number specified for the Horizontal Stabilizer Inspection Table in the document citation in paragraph (j)(2) of the regulatory text is incorrectly referenced as “Table 11.” The correct reference is “Table 12.”

Related Service Information Under 1 CFR Part 51

The FAA reviewed Gulfstream G500-5000 Customer Bulletin No. 190, Revision B; Gulfstream G550 Customer Bulletin No. 190, Revision B; and Gulfstream GV Customer Bulletin No. 228, Revision B; all dated October 31, 2019. For the applicable marketing designation specified on each document, the customer bulletins specify procedures for inspecting the horizontal stabilizer lower bonded skin.

The FAA also reviewed Section F and Table 12: Horizontal Stabilizer Inspection Table in Section 05-10-10, Airworthiness Limitations, of Chapter 05, Time Limits/Maintenance Checks, of the Gulfstream V Aircraft Maintenance Manual, Revision 55, dated March 15, 2022; Section F and Table 11: Horizontal Stabilizer Inspection Table in Section 05-10-10, Airworthiness Limitations, of Chapter 05, Time Limits/Maintenance Checks, of the Gulfstream G500-5000 Aircraft Maintenance Manual, Revision 36, dated March 15, 2022; and Section F and Table 11: Horizontal Stabilizer Inspection Table in Section 05-10-10, Airworthiness Limitations, of Chapter 05, Time Limits/Maintenance Checks, of the Gulfstream G550 Aircraft Maintenance Manual, Revision 36, dated March 15, 2022. For the applicable marketing designation specified on each document, the service information contains inspection intervals for nondestructive testing of the lower horizontal stabilizer skins and provides the specific reference for the inspection procedures.

This service information is reasonably available because the interested parties have access to it through their normal course of business or by the means identified in the ADDRESSES section.

Correction of Publication

This document corrects two typographical errors and correctly adds the AD as an amendment to 14 CFR 39.13. Although no other part of the preamble or regulatory information has been corrected, the FAA is republishing the entire rule in the Federal Register.

The effective date of this AD remains September 7, 2022.

Since this action only corrects a revision level and table number in document citations in the regulatory text, it has no adverse economic impact and imposes no additional burden on any person. Therefore, the FAA has determined that notice and public procedures are unnecessary.

List of Subjects in 14 CFR Part 39

Air transportation, Aircraft, Aviation safety, Incorporation by reference, Safety.

Adoption of the Correction

Accordingly, under the authority delegated to me by the Administrator, the FAA corrects 14 CFR part 39 as follows:

PART 39—AIRWORTHINESS DIRECTIVES

1. The authority citation for part 39 continues to read as follows:

Authority: 49 U.S.C. 106(g), 40113, 44701.

§ 39.13 [Corrected]

2. The FAA corrects § 39.13 by correcting the airworthiness directive published at 87 FR 47337 (August 3, 2022) to read:

2022-16-04 Gulfstream Aerospace Corporation: Amendment 39-22133; Docket No. FAA-2021-0958; Project Identifier 2019-CE-010-AD.

(a) Effective Date

This airworthiness directive (AD) is effective September 7, 2022.

(b) Affected ADs

None.

(c) Applicability

This AD applies to Gulfstream Aerospace Corporation Model GV and GV-SP airplanes, all serial numbers, certificated in any category.

Note 1 to paragraph (c): Model GV-SP airplanes are also referred to by the marketing designations G500, G550, and G500-5000.

(d) Subject

Joint Aircraft System Component (JASC) Code 5510, Horizontal Stabilizer Structure.

(e) Unsafe Condition

This AD results from corrosion of the horizontal stabilizer lower bonded skin assemblies. The FAA is issuing this AD to detect and correct bond line corrosion, which if not addressed, could result in compromise of the structural integrity of the horizontal stabilizer and lead to loss of control of the airplane.

(f) Compliance

Comply with this AD within the compliance times specified, unless already done.

(g) Incorporation of Airworthiness Limitations (ALS) Revisions

Within 30 days after the effective date of this AD, incorporate into your existing maintenance or inspection program the ALS revision specified in paragraph (g)(1), (2), or (3) of this AD for your applicable airplane designation.

(1) For Model GV airplanes: Section F and Table 12: Horizontal Stabilizer Inspection Table in Section 05-10-10, Airworthiness Limitations, of Chapter 05, Time Limits/Maintenance Checks, of the Gulfstream V Aircraft Maintenance Manual, Revision 55, dated March 15, 2022.

(2) For Model GV-SP (G500 and G500-5000) airplanes: Section F and Table 11: Horizontal Stabilizer Inspection Table in Section 05-10-10, Airworthiness Limitations, of Chapter 05, Time Limits/Maintenance Checks, of the Gulfstream G500-5000 Aircraft Maintenance Manual, Revision 36, dated March 15, 2022.

(3) For Model GV-SP (G550) airplanes: Section F and Table 11: Horizontal Stabilizer Inspection Table in Section 05-10-10, Airworthiness Limitations, of Chapter 05, Time Limits/Maintenance Checks, of the Gulfstream G550 Aircraft Maintenance Manual, Revision 36, dated March 15, 2022.

(h) Applicable Customer Bulletins

The customer bulletins specified in paragraphs (h)(1) through (3) of this AD contain procedures for compliance with the actions required by paragraph (i) of this AD for your applicable airplane designation:

(1) Gulfstream GV Customer Bulletin No. 228, Revision B, dated October 31, 2019;

(2) Gulfstream G500-5000 Customer Bulletin No. 190, Revision B, dated October 31, 2019; or

(3) Gulfstream G550 Customer Bulletin No. 190, Revision B, dated October 31, 2019.

(i) Inspection

For Model GV airplanes, all serial numbers, and Model GV-SP airplanes, serial numbers 5001 through 5158: Within 12 months after the effective date of this AD, perform the horizontal stabilizer lower skin resonance C-Scan inspection (Part II inspection) for bond line corrosion and apply corrosion inhibiting compound (CIC) by following steps 6.2.a. through 6.2.e. and 6.3.a. of appendix A of the applicable customer bulletin listed in paragraph (h) of this AD.

Note 2 to the introductory text of paragraph (i): Operators may align the inspections listed in the applicable ALS revision in paragraph (g) of this AD with the Part II inspection.

(1) Within 48 months after applying CIC, repair all bond line corrosion.

(2) If there is bond line corrosion that exceeds the allowable damage limits in Table 2 of appendix A of the applicable customer bulletin listed in paragraph (h) of this AD, or other allowable damage limits established by an appropriately authorized Gulfstream Organization Designation Authorization (ODA) unit member, repair all bond line corrosion before further flight using a repair approved by the FAA or an appropriately authorized Gulfstream ODA unit member.

(i) For a repair method to be approved by the FAA, the FAA's approval of the repair must specifically refer to this AD.

(ii) For a repair method to be approved by a Gulfstream ODA unit member, the unit member must be authorized in writing by the Manager of the Atlanta ACO Branch to approve repairs for this AD, and the unit member's approval of the repair must specifically refer to this AD.

(j) Credit for Previous Actions

You may take credit for the ALS revision required by paragraph (g) of this AD if you revised the ALS before the effective date of this AD using the service information specified in paragraph (j)(1), (2), or (3) of this AD, as applicable to your airplane designation.

(1) For Model GV airplanes: Section F and Table 12: Horizontal Stabilizer Inspection Table in Section 05-10-10, Airworthiness Limitations, of Chapter 05, Time Limits/Maintenance Checks, of the Gulfstream V Aircraft Maintenance Manual, Revision 51, dated February 28, 2020.

(2) For Model GV-SP (G500 and G500-5000) airplanes: Section F and Table 12: Horizontal Stabilizer Inspection Table in Section 05-10-10, Airworthiness Limitations, of Chapter 05, Time Limits/Maintenance Checks, of the Gulfstream G500-5000 Aircraft Maintenance Manual, Revision 34, dated March 15, 2021.

(3) For Model GV-SP (G550) airplanes: Section F and Table 12: Horizontal Stabilizer Inspection Table in Section 05-10-10, Airworthiness Limitations, of Chapter 05, Time Limits/Maintenance Checks, of the Gulfstream G550 Aircraft Maintenance Manual, Revision 34, dated March 15, 2021.

(k) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD.

(2) Before using any approved AMOC, notify your appropriate principal inspector, or lacking a principal inspector, the manager of the local flight standards district office/certificate holding district office.

(3) An AMOC that provides an acceptable level of safety may be used for any repair, modification, or alteration required by this AD if it is approved by a Gulfstream Engineering Authorized Representative (EAR) of the Gulfstream ODA that has been authorized by the Manager, Atlanta ACO Branch, to make those findings. To be approved, the repair, modification deviation, or alteration deviation must meet the certification basis of the airplane, and the approval must specifically refer to this AD.

(4) For service information that contains steps that are labeled as Required for Compliance (RC), the following provisions apply.

(i) The steps labeled as RC, including substeps under an RC step and any figures identified in an RC step, that are required by paragraph (i) of this AD must be done to comply with this AD. An AMOC is required for any deviations to RC steps required by paragraph (i) of this AD, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

(1) For more information about this AD, contact Ronald Wissing, Aviation Safety Engineer, Atlanta ACO Branch, FAA, 1701 Columbia Avenue, College Park, GA 30337; phone: (404) 474-5552; email: 9-ASO-ATLACO-ADs@faa.gov.

(2) Service information identified in this AD that is not incorporated by reference is available at the addresses specified in paragraphs (m)(4) and (5) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 7, 2022 (87 FR 47337, August 3, 2022).

(i) Gulfstream G500-5000 Customer Bulletin No. 190, Revision B, dated October 31, 2019.

(ii) Gulfstream G550 Customer Bulletin No. 190, Revision B, dated October 31, 2019.

(iii) Gulfstream GV Customer Bulletin No. 228, Revision B, dated October 31, 2019.

(iv) Section F and Table 11: Horizontal Stabilizer Inspection Table in Section 05-10-10, Airworthiness Limitations, of Chapter 05, Time Limits/Maintenance Checks, of the Gulfstream G500-5000 Aircraft Maintenance Manual, Revision 36, dated March 15, 2022.

(v) Section F and Table 11: Horizontal Stabilizer Inspection Table in Section 05-10-10, Airworthiness Limitations, of Chapter 05, Time Limits/Maintenance Checks, of the Gulfstream G550 Aircraft Maintenance Manual, Revision 36, dated March 15, 2022.

(vi) Section F and Table 12: Horizontal Stabilizer Inspection Table in Section 05-10-10, Airworthiness Limitations, of Chapter 05, Time Limits/Maintenance Checks, of the Gulfstream V Aircraft Maintenance Manual, Revision 55, dated March 15, 2022.

(4) For service information identified in this AD, contact Gulfstream Aerospace Corporation, Technical Publications Dept., P.O. Box 2206, Savannah, GA 31402; phone: (800) 810-4853; fax: (912) 965-3520; email: pubs@gulfstream.com; website: gulfstream.com/en/customer-support/.

(5) You may view this service information at FAA, Airworthiness Products Section, Operational Safety Branch, 901 Locust, Kansas City, MO 64106. For information on the availability of this material at the FAA, call (817) 222-5110.

(6) You may view this service information that is incorporated by reference at the National Archives and Records Administration (NARA). For information on the availability of this material at NARA, email: fr.inspection@nara.gov, or go to: archives.gov/federal-register/cfr/ibr-locations.html.

Issued on August 24, 2022.
Gaetano A. Sciortino,
Deputy Director for Strategic Initiatives, Compliance & Airworthiness Division, Aircraft Certification Service.

[FR Doc. 2022-18538 Filed 8-26-22; 8:45 am]

BILLING CODE 4910-13-P